DEPARTMENT OF JUSTICE

Antitrust Division

Notice Pursuant to the National Cooperative Research and Production Act of 1993—Naval Surface Technology & Innovation Consortium

Notice is hereby given that, on April 7, 2020, pursuant to Section 6(a) of the National Cooperative Research and Production Act of 1993, 15 U.S.C. 4301 et seq. (“the Act”), Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances. Specifically, Rigil Corporation, Washington, DC; Qlik Tech, King of Prussia, PA; Aerojet Rocketdyne, Huntsville, AL; Command Post Technologies, Inc., Suffolk, VA; ASSETT, Inc., Manassas, VA; ASRC Federal Agile Decision Sciences, Huntsville, AL; ADI Technologies Inc., Chantilly, VA; Digital Cloak, LLC, Stafford, VA; Envistacom, LLC, Atlanta, GA; Science Applications International Corporation (SAIC), Reston, VA; Neya Systems, LLC, Warrendale, PA; NOVA Power Solutions, Inc., Sterling, VA; FLIR Commercial Systems, Goleta, CA; Lockheed Martin Aculight Corporation, Bothell, WA; Systems Engineering Group, Inc., Columbia, MD; Northrop Grumman Mission Systems, Linthicum, MD; Asymmetric Technologies, LLC, Dublin, OH; Sechan Electronics, Inc., Lititz, PA; Systecon North America, Arlington, VA; Innovative Concepts Engineering Inc., Greenbelt, MD; EFW Inc., an Elbit Systems of America, Fort Worth, TX; Peraton, Herndon, VA; Jankel Tactical Systems, LLC, Duncan, SC; Bowhead Professional Solutions, LLC, Springfield, VA; La Jolla Logic, Inc., San Diego, CA; Vertosoft LLC, Leesburg, VA; Broadband Antenna Tracking Systems Inc. (BATS), Indianapolis, IN; Wireless Technology Assoc., Inc., Setauket, NY; Technology Service Corporation (TSC), Arlington, VA; Agile Defense Inc., Reston, VA; Plasan North America, Walker, MI; Ace Electronics Defense Systems, Aberdeen Proving Ground, MD; Mills Marine & Ship Repair LLC, Suffolk, VA; Selex Gaileo Inc., Arlington, VA; L3 Harris/C5S, Camden, NJ; Certus Solutions, LLC, Fredericksburg, VA; ANDRO Computational Solutions, LLC, Rome, NY; Applied Visions, Inc. Secure Decisions Division, Northport, NY; Polaris Alpha Advanced Systems, Inc., Aberdeen Proving Ground, MD; Fabrisonic LLC, Columbus, OH; Honeywell, Phoenix, AZ; CACI, INC.—FEDERAL, Chantilly, VA; Bruker Detection Corporation, Billerica, MA; Design Interactive, Inc., Orlando, FL; Kratos Technology & Training Solutions, Inc., San Diego, CA; Franklin Engineering Group, Inc., Franklin, TN; RCT Systems, Baltimore, MD; Accenture Federal Services LLC, Arlington, VA; A-Tech Corporation, Albuquerque, NM; Composite Design & Development, Scarborough, Maine; Serco Inc., New London, CT; EngeniusMicro, Huntsville, AL; EWI, Columbus, OH; Applied Research Associates, Inc. (ARA), Albuquerque, NM; QUANTITATIVE SCIENTIFIC SOLUTIONS, LLC, Arlington, VA; Robotic Research, LLC, Gaithersburg, MD; IERUSTECH, Huntsville, AL; Materials Sciences LLC, Horsham, PA; Luna Innovations Incorporated, Roanoke, VA; Pacific Antenna Systems LLC, Camarillo, CA; II-VI Optical Systems, Murrieta, CA; Specialized Technical Systems, LLC, Tewksbury, MA; Toyon Research Corporation, Goleta, CA; Copious Imaging LLC, Lexington, MA; Planck Aerosystems, San Diego, CA; Metamagnetics Inc., Westborough, MA; Foster Miller Inc. dba QinetiQ North America, Waltham, MA; Aquabotix Technology Corporation, Jamestown, RI; RKF Engineering Solutions, LLC, Bethesda, MD; Summit Technical Solutions, LLC, Colorado Springs, CO; L3 Harris Technologies, Inc., Williamsport, PA; eTRANSERVICES Corp., Fredericksburg, VA; DataRobot, Boston, MA; Alliant Techsystems Operations LLC (NGIS Armaments Systems), Plymouth, MN; GhostWolf Industries, Bozeman, MT; Collins Aerospace, Cedar Rapids, IA; Cypress International, Alexandria, VA; DRS Laurel Technologies, Johnstown, PA; EWA Government Systems, Inc., Herndon, VA; JOHN H NORTHROP & ASSOCIATES INC (JHNA), Clifton, VA; Stardog Union, Arlington, VA; Altamira Technologies Corporation, McLean, VA; Southeastern Computer Consultants, Inc. (SCCI), King George, VA; Bridge 12 Technologies, Inc., Framingham, MA; Bach Pharma, Inc., North Andover, MA; En'Urga Inc., West Lafayette, IN; Ardalyst Federal, LLC, Annapolis, MD; Creare LLC, Hanover, NH; Applied Physical Sciences Corp., Groton, CT; Palantir USG, Inc., Palo Alto, CA; Applied Composites, San Diego, CA; Daylight Defense, LLC, San Diego, CA; SitScape, Inc., Vienna, VA; Big Metal Additive, LLC, Wheat Ridge, CO; Command Decisions Systems & Solutions, Inc., Stafford, VA; Harris Government Communication Systems, Palm Bay, FL; Whitespace Innovations, Inc., Huntsville, AL; Ashwin‐Ushas Corporation, Holmdel, NJ; IPG Photonics Corporation, Oxford, MA; International Business Machines Corp. (IBM), Bethesda, MD; PeopleTec, Inc., Huntsville, AL; Lasertel, Inc., Tucson, AZ; Control Vision, Inc., Tucson, AZ; Soar Technology, Inc., Ann Arbor, MI; ORBIS Sibro, Inc., Charleston, SC; First Reliable Operations Group Inc., Suffolk, VA; General Dynamics Ordnance and Tactical Systems, Marion, IL; Systems & Technology Research, Woburn, MA; Dynamic Structures and Materials, LLC, Franklin, TN; Systima Technologies, Inc., Kirkland, WA; Tangram Flex, Inc., Dayton, OH; Allard Nazarian Group, Inc. dba Granite State Manufacturing, Manchester, NH; SimVentions, Inc., Fredericksburg, VA; Exact Solution Scientific Consulting LLC, Morristown, NJ; Evans Capacitor Company, East Providence, RI; Integration Services Incorporated, Colonial Beach, VA; Scientific Research Corporation, Atlanta, GA; SI2 Technologies, Inc., N. Billerica, MA; Astrapi Corporation, Dallas, TX; HT MicroAnalytical Inc., Albuquerque, NM; Rockwell Collins Simulation & Training Solutions, Cedar Rapids, IA; Radiance Technologies, Inc., Huntsville, AL; GBL Systems Corporation, Camarillo, CA; Invisible Interdiction Inc., Vero Beach, FL; Grey Matters Defense Solutions, LLC, Castle Rock, CO; Mide Technology Corp., Woburn, MA; Vectrus Mission Solutions Corporation, Alexandria, VA; Augustine Die and Mold, Inc., Somerset, PA; Forward Photonics, LLC, Woburn, MA; General Dynamics Information Technology, Inc. (GDIT), Falls Church, VA; Real-Time Innovations, Inc. (RTI), Sunnyvale, CA; Infinity Systems Engineering, Colorado Springs, CO; Arnold Magnetic Technologies, Rochester, NY; AT&T Corp., Oakton, VA; Griffon Aerospace Incorporated, Madison, AL; General Atomics, San Diego, CA; Colorado Engineering, Inc., Colorado Springs, CO; ICE ITS INC., Ashburn, VA; Integrity Consulting Engineering and Security Solutions (ICESS), Purcellville, VA; Specialty Systems, Inc., Toms River, NJ; Emerging Technology Ventures Inc., Alamogordo, NM; Telephonics Corporation, Farmingdale, NY; Cornerstone Defense LLC, Hanover, MD; Quality Aero Inc. dba Acquisition Logistics Engineering (ALE), Worthington, OH; ASU Research Enterprise (ASURE), Scottsdale, AZ; University of Notre Dame, Notre Dame, IN; AdValue Photonics Inc., Tucson, AZ; Streamline Automation, LLC, Huntsville, AL; Quantitative BioSciences, Inc., San Diego, CA; The Columbia Group, Inc., Washington, DC; AAI Corporation d/b/a Textron Systems, Hunt Valley, MD; Valkyrie Enterprises, Inc., Virginia Beach, VA; MetaTeq, Inc., Alexandria, VA; LS telcom, Inc., Bowie, MD; Karagozian and Case Inc., Glendale, CA; RAM Laboratories, Inc., San Diego, CA; Northrop Grumman Systems Corporation, Redondo Beach, CA; Stottler Henke Associates Inc. (SHAI), San Mateo, CA; KPMG LLP D.B.A. KPMG LLP Federal Services, McLean, VA; ITL LLC DBA ITL Solutions, Hampton, VA; Pathfinder Wireless Corp., Seattle, WA; Thornton Tomasetti, Inc., New York, NY; Iquro Development Group, LLC, Sheridan, WY; Geometric Data Analytics, Inc., Chapel Hill, NC; GBS Laboratories, LLC, Herndon, VA; Voxtel, Inc., Beaverton, OR; ASR Corporation, Albuquerque, NM; Propagation Research Associates, Inc., Marietta, GA; University of Florida Board of Trustees Division of Sponsored Programs, Gainesville, FL; Techie Innovation Solutions, LLC, Socorro, NM; Numerica Corporation, Fort Collins, CO; CTC Enterprise Ventures Corporation (EVC), Johnstown, PA; Two Six Labs, LLC, Arlington, VA; The Metamorphosis Group, Inc., Vienna, VA; Epsilon Systems Solutions, Inc., San Diego, CA; Rock West Composites, Inc., Goleta, CA; CoVar Applied Technologies, Inc., McLean, VA; Segue Technologies, Inc., Arlington, VA; Metal Improvement Co. LLC dba Para Tech Coating, Laguna Hills, CA; MZA Associates Corporation, Albuquerque, NM; Rolls-Royce North America, Inc., Reston, VA; Strategic Technology Consulting, Toms River, NJ; Purdue University, West Lafayette, IN; Reservoir Labs, Inc., New York, NY; Integrated Solutions For Systems (IS4S), Huntsville, AL; Texas Tech University, Lubbock, TX; NTT DATA Federal Services, Inc., Herndon, VA; FEDITC LLC, Rockville, MD; Reinventing Geospatial, Inc.(RGi), Fairfax, VA; NextStep Technology, Inc., Morgan Hill, CA; Rincon Research Corporation, Tucson, AZ; Siemens Digital Industries Software Inc. dba Siemens Product Lifecycle Management Inc., Plano, TX; Goleta Star LLC, Santa Barbra, CA; Ultramet, Pacoima, CA; Ishpi Information Technologies, Inc., Suffolk, VA; SIPPA Solutions, Bayside, NY; General Dynamics OTS (Niceville), Inc., Healdsburg, CA; Interlog Corporation, Anaheim, CA; Precision Products Inc., Dalton, GA; Raven Wireless Design, LLC, Chantilly, VA; VES LLC, Aberdeen Proving Ground, MD; Eikon Research, Inc., Huntsville, AL; Attollo Engineering, Camarillo, CA; T2S, LLC, Belcamp, MD; Spectral Sciences, Inc., Burlington, MA; Frequency Electronics, Inc., Mitchel Field, NY; Technology Management Group, Inc., King George, VA; DC Photonics LLC, Lucas, TX; Spectra Technologies, LLC, East Camden, AR; IQ-Analog, San Diego, CA; TVAR Solutions, LLC, McLean, VA; UVision-USA Corporation, Purcellville, VA; Barber-Nichols, Inc., Arvada, CO; Avatar Partners Inc., Huntington Beach, CA; Scaled Power, Inc., San Francisco, CA; Reynolds Systems Inc., Middletown, CA; WMD Guns, LLC, Stuart, FL; Probus Test Systems Inc., Lincroft, NJ; TMC Design Corporation, Las Cruces, NM; JAKTOOL LLC, Cranbury, NJ; Synthio Chemicals, Inc., Boulder, CO; JetCo Solutions, Grand Rapids, MI; Torrey Pines Logic, Inc., San Diego, CA; ECI Defense Group Inc., Lyles, TN; Nostromo, LLC, Alexandria, VA; American Engineering & Manufacturing Inc., Elyria, OH; Inventive Response LLC, Torrance, CA; North Star Systems, Inc., Birmingham, AL; Edge Case Research, Inc., Pittsburgh, PA; Truston Technologies, Inc., Annapolis, MD; KEARNEY Group LLC, Stafford, VA; SimIS Incorporated, Portsmouth, VA; Programs Management Analytics & Technologies, Inc. (PMAT), Norfolk, VA; Aptima, Inc., Woburn, MA; Alytic, Inc., King George, VA; Logistics Management Institute (LMI), Tysons, VA; Trion Coatings LLC, South Bend, IN; Dignitas Technologies, LLC, Orlando, FL; Loc Performance Products, Inc., Plymouth, MI; Old Dominion University Research Foundation, Norfolk, VA; Pacific Scientific Energetic Materials Company (California) LLC, Chandler, AZ; nLogic, LLC, Huntsville, AL; Life Cycle Engineering, Inc., North Charleston, SC; BMT Designers & Planners, Inc., Arlington, VA; Stryke Industries, LLC, Fort Wayne, IN; Systems Technology Forum, Ltd., Fredericksburg, VA; X-Feds, San Diego, CA; Design West Technologies, Inc., Tustin, CA; Immersion Consulting, LLC, Annapolis, MD; Trident Research, Austin, TX; FIRST RF Corporation, Boulder, CO; Quantum Applied Science & Research (QUASAR), Inc., San Diego, CA; Anthem Engineering, LLC, Elkridge, MD; CMA Technologies, Inc., Orlando, FL; Setter Research, Inc., Greensboro, NC; Torch Research, LLC, Leawood, KS; L3 Technologies Inc., Telemetry & RF Products, Bristol, PA; Sayres and Associates Corp., Washington, DC; QUASAR Federal Systems, Inc., San Diego, CA; DEFENSEWERX, Niceville, FL; Regents of New Mexico State University, Las Cruces, NM; L3 Harris Technologies, Space and Airborne Systems, Fort Wayne, IN; The Charles Stark Draper Laboratory, Inc., Cambridge, MA; Teledyne Brown Engineering, Inc., Huntsville, AL; ADIT Solutions Inc., Chantilly, VA; Eastern Research Group, Inc. (ERG), Lexington, MA; Midwest Engineered Systems, Waukesha, WI; Black River Systems Company, Utica, NY; Hepburn and Sons LLC, Manassas, VA; JET Systems, LLC, Lexington Park, MD; Bridge Core, LLC, Tysons, VA; Raven Defense Corporation, Albuquerque, NM; Tantalum, LLC, Groton Long Point, CT; Augmntr, Inc., Grass Valley, CA; Precise Systems Inc., Lexington Park, MD; ArmorWorks Enterprises, Inc., Chandler, AZ; NCS Technologies, Inc., Gainesville, VA; Rocky Research, Boulder City, NV; Cape Henry Associates, Virginia Beach, VA; GE Research, Niskayuna, NY; SMART Embedded Computing, Inc., Tempe, AZ; Data Intelligence Technologies, Inc., Washington, DC; Jmark Services Inc., Colorado Springs, CO; MILCOTS, Mahwah, NJ; Teksouth Corporation, Gardendale, AL; PTI (Polymer Technologies, Inc.), Clifton, NJ; Vadum Inc., Raleigh, NC; CKS Technologies, Huntsville, AL; AT&T Government Solutions Inc. (GSI), Oakton, VA; Kestrel Corporation, Albuquerque, NM; Rite-Solutions, Inc., Pawcatuck, CT; University of South Alabama, Mobile, AL; Adranos, Inc., West Lafayette, IN; Rocky Mountain Scientific Laboratory, Littleton, CO; American Technical Coatings, Inc. dba ATC Materials, Inc., Westlake, OH; Agile Global Solutions LLC, Denver, NC; Bailey Tool, Lancaster, TX; Basic Engineering Concepts and Technology, Inc. (BecTech, Inc.), Alexandria, VA; Cintel Inc., Huntsville, AL; Conflict Kinetics Corporation, Sterling, VA; Cortina Solutions, LLC, Huntsville, AL; Envisioneering, Inc., Alexandria, VA; Genus Group, LLC, North Potomac, MD; Intelligent Automation, Inc., Rockville, MD; L3 Fuzing and Ordnance Systems, Inc., Cincinnati, OH; LMD Power of Light Corp., Rochester, NY; Science, Engineering, Management Solutions, LLC, Albuquerque, NM; Scientific Applications & Research Associates (SARA), Inc., Cypress, CA; Scot Forge Company, Spring Grove, IL; Space Data Corporation, Chandler, AZ; Summit Information Solutions, Inc., Glen Allen, VA; The Rector and Visitors of the University of Virginia, Charlottesville, VA; Thermal and Fluids Solutions Group, LLC, Fredericksburg, VA; Valitus Technologies, Inc., Coroma, CA; Vidrovr, New York, NY, have been added as parties to this venture.

No other changes have been made in either the membership or planned activity of the group research project. Membership in this group research project remains open, and NSTIC intends to file additional written notifications disclosing all changes in membership.

On September 08, 2019, NSTIC filed its original notification pursuant to Section 6(a) of the Act. The Department of Justice published a notice in the Federal Register pursuant to Section 6(b) of the Act on November 12, 2019 (84 FR 61071).

Suzanne Morris,
Chief, Premerger and Division Statistics Unit, Antitrust Division.

[FR Doc. 2020-09590 Filed 5-4-20; 8:45 am]

BILLING CODE 4410-11-P